DEPARTMENT OF COMMERCE

National Oceanic and Atmospheric Administration

RIN 0648-XE500

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's (Council) Tilefish Advisory Panel will hold a public meeting.

DATES: The meeting will be held Tuesday, April 5, 2016, from 10 a.m. to 12 p.m., to view the agenda, see SUPPLEMENTARY INFORMATION.

ADDRESSES: The meeting will be held via webinar with a telephone-only connection option.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the proposed agenda, webinar listen-in access, and briefing materials.

SUPPLEMENTARY INFORMATION:

Agenda

This meeting will gather input on Framework 2 to the Golden Tilefish Fishery Management Plan. Specifically, Golden Tilefish Advisory Panel Members input will be sought on the overall framework (and following measure in specific: “That the Council restricts the recreational Golden Tilefish Fishery to rod and real fishery only (with a five hook limit)).” The Council will take action on this Framework at the April 2016 Council meeting.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

This meeting is physically accessible to people with disabilities. Requests for sign language interpretation or other auxiliary aid should be directed to M. Jan Saunders, (302) 526-5251, at least 5 working days prior to the meeting date.

Authority: 16 U.S.C. 1801 et seq.

Dated: March 14, 2016.
Tracey L. Thompson,
Acting Director, Office of Sustainable Fisheries, National Marine Fisheries Service.

[FR Doc. 2016-06047 Filed 3-16-16; 8:45 am]

BILLING CODE 3510-22-P